DEPARTMENT OF ENERGY

Federal Energy Regulatory Commission

Combined Notice of Filings #1

Take notice that the Commission received the following electric corporate filings:

Docket Numbers: EC20-41-000.

Applicants: Thunderhead Wind Energy LLC, WEC Infrastructure LLC.

Description: Joint Application for Authorization Under Section 203 of the Federal Power Act, et al. of Thunderhead Wind Energy LLC, et al.

Filed Date: 2/26/20.

Accession Number: 20200226-5344.

Comments Due: 5 p.m. ET 3/18/20.

Take notice that the Commission received the following electric rate filings:

Docket Numbers: ER20-547-001.

Applicants: Goldman Sachs Renewable Power Marketing LLC.

Description: Tariff Amendment: Response to Letter Requesting Additional Information to be effective 1/2/2020.

Filed Date: 2/27/20.

Accession Number: 20200227-5182.

Comments Due: 5 p.m. ET 3/19/20.

Docket Numbers: ER20-1083-000.

Applicants: Tri-State Generation and Transmission Association, Inc.

Description: Tariff Cancellation: Notice of Cancellation of Rate Schedules FERC No. 174 and No. 175 to be effective 1/2/2020.

Filed Date: 2/26/20.

Accession Number: 20200226-5249.

Comments Due: 5 p.m. ET 3/18/20.

Docket Numbers: ER20-1084-000.

Applicants: PJM Interconnection, L.L.C.

Description: § 205(d) Rate Filing: Amendment to WMPA, SA No. 3202; Queue No. W3-077 (consent) to be effective 4/30/2014.

Filed Date: 2/26/20.

Accession Number: 20200226-5258.

Comments Due: 5 p.m. ET 3/18/20.

Docket Numbers: ER20-1085-000.

Applicants: Virginia Electric and Power Company, PJM Interconnection, L.L.C.

Description: Compliance filing: Dominion submits revisions to OATT, Att. H-16A re: RM19-5 to be effective 1/27/2020.

Filed Date: 2/26/20.

Accession Number: 20200226-5261.

Comments Due: 5 p.m. ET 3/18/20.

Docket Numbers: ER20-1086-000.

Applicants: Pegasus Wind A, LLC.

Description: Baseline eTariff Filing: Pegasus Wind A, LLC Application for Market-Based Rate Authority to be effective 4/27/2020.

Filed Date: 2/26/20.

Accession Number: 20200226-5269.

Comments Due: 5 p.m. ET 3/18/20.

Docket Numbers: ER20-1087-000.

Applicants: New England Electric Transmission Corporation.

Description: Compliance filing: Order No. 864 Compliance Filing to be effective 1/27/2020.

Filed Date: 2/26/20.

Accession Number: 20200226-5278.

Comments Due: 5 p.m. ET 3/18/20.

Docket Numbers: ER20-1088-000.

Applicants: New England Hydro Transmission Electric Company.

Description: Compliance filing: Order No. 864 Compliance Filing to be effective 1/27/2020.

Filed Date: 2/26/20.

Accession Number: 20200226-5290.

Comments Due: 5 p.m. ET 3/18/20.

Docket Numbers:ER20-1089-000.

Applicants: New England Hydro Transmission Corporation.

Description: Compliance filing: Order No. 864 Compliance Filing to be effective 1/27/2020.

Filed Date: 2/26/20.

Accession Number: 20200226-5291.

Comments Due: 5 p.m. ET 3/18/20.

Docket Numbers: ER20-1090-000.

Applicants: NorthWestern Corporation.

Description: Order No. 864 Compliance Filing of NorthWestern Corporation.

Filed Date: 2/26/20.

Accession Number: 20200226-5346.

Comments Due: 5 p.m. ET 3/18/20.

Docket Numbers: ER20-1091-000.

Applicants: Union Electric Company, Midcontinent Independent System Operator, Inc.

Description: § 205(d) Rate Filing: 2020-02-27_SA 3431 UEC-Farmington Construction Agreement to be effective 4/28/2020.

Filed Date: 2/27/20.

Accession Number: 20200227-5040.

Comments Due: 5 p.m. ET 3/19/20.

Docket Numbers: ER20-1092-000.

Applicants: Public Service Company of Colorado, Southwestern Public Service Company.

Description: Order No. 864 Compliance Filing of Public Service Company of Colorado and Southwestern Public Service Company.

Filed Date: 2/26/20.

Accession Number: 20200226-5354.

Comments Due: 5 p.m. ET 3/18/20.

Docket Numbers: ER20-1093-000.

Applicants: Southwest Power Pool, Inc.

Description: § 205(d) Rate Filing: Tariff Clean-Up Filing Effective 20200205 to be effective 2/5/2020.

Filed Date: 2/27/20.

Accession Number: 20200227-5065.

Comments Due: 5 p.m. ET 3/19/20.

Docket Numbers: ER20-1094-000.

Applicants: ISO New England Inc., New England Power Pool Participants Committee.

Description: § 205(d) Rate Filing: ISO-NE and NEPOOL; Market Rule 1 Revisions to NCPC Provisions to be effective 5/1/2020.

Filed Date: 2/27/20.

Accession Number: 20200227-5073.

Comments Due: 5 p.m. ET 3/19/20.

Docket Numbers: ER20-1095-000.

Applicants: Southwest Power Pool, Inc.

Description: § 205(d) Rate Filing: 607R37 Evergy Kansas Central, Inc. NITSA NOA to be effective 2/1/2020.

Filed Date: 2/27/20.

Accession Number: 20200227-5086.

Comments Due: 5 p.m. ET 3/19/20.

Docket Numbers: ER20-1096-000.

Applicants: Southwestern Electric Power Company.

Description: § 205(d) Rate Filing: SWEPCO-AECC Bates Delivery Point Agreement Cancellation to be effective 4/27/2020.

Filed Date: 2/27/20.

Accession Number: 20200227-5088.

Comments Due: 5 p.m. ET 3/19/20.

Docket Numbers: ER20-1097-000.

Applicants: Southwest Power Pool, Inc.

Description: § 205(d) Rate Filing: 1534R11 Kansas Municipal Energy Agency NITSA NOA to be effective 2/1/2020.

Filed Date: 2/27/20.

Accession Number: 20200227-5094.

Comments Due: 5 p.m. ET 3/19/20.

Docket Numbers: ER20-1098-000.

Applicants: Southwest Power Pool, Inc.

Description: § 205(d) Rate Filing: 2646R7 Kansas Municipal Energy Agency NITSA NOA to be effective 2/1/2020.

Filed Date: 2/27/20.

Accession Number: 20200227-5104.

Comments Due: 5 p.m. ET 3/19/20.

Docket Numbers: ER20-1099-000.

Applicants: Midcontinent Independent System Operator, Inc., ITC Midwest LLC.

Description: § 205(d) Rate Filing: 2020-02-27_SA 3430 ITC-IPL FSA (J495) to be effective 2/28/2020.

Filed Date: 2/27/20.

Accession Number: 20200227-5106.

Comments Due: 5 p.m. ET 3/19/20.

Docket Numbers: ER20-1100-000.

Applicants: New York Independent System Operator, Inc., New York State Electric & Gas Corporation.

Description: § 205(d) Rate Filing: 205 re: LGIA SA2487 between NYISO, NYSEG and Baron Winds to be effective 2/12/2020.

Filed Date: 2/27/20.

Accession Number: 20200227-5111.

Comments Due: 5 p.m. ET 3/19/20.

Docket Numbers: ER20-1101-000.

Applicants: Wabash Valley Power Association, Inc.

Description: § 205(d) Rate Filing: Filing of New Wholesale Power Supply Contracts to be effective 4/27/2020.

Filed Date: 2/27/20.

Accession Number: 20200227-5128.

Comments Due: 5 p.m. ET 3/19/20.

Docket Numbers: ER20-1102-000.

Applicants: Hatchet Ridge Wind, LLC.

Description: Tariff Cancellation: Cancellation of Extraneous MBR Tariff in Docket ER11-2489-000 to be effective 2/26/2020.

Filed Date: 2/27/20.

Accession Number: 20200227-5131.

Comments Due: 5 p.m. ET 3/19/20.

Docket Numbers: ER20-1103-000.

Applicants: Ocotillo Express LLC.

Description: Tariff Cancellation: Cancellation of Extraneous MBR Tariff in Docket No. ER12-2639-000 to be effective 2/26/2020.

Filed Date: 2/27/20.

Accession Number: 20200227-5132.

Comments Due: 5 p.m. ET 3/19/20.

Docket Numbers: ER20-1104-000.

Applicants: Pacific Gas and Electric Company.

Description: § 205(d) Rate Filing: 2-27-20 Unexecuted Agreements, City and County of San Francisco WDT SA (SA 275) to be effective 4/28/2020.

Filed Date: 2/27/20.

Accession Number: 20200227-5145.

Comments Due: 5 p.m. ET 3/19/20.

Docket Numbers: ER20-1105-000.

Applicants: New York Independent System Operator, Inc.

Description: § 205(d) Rate Filing: 205: Short Term Reliability Planning Process to be effective 5/1/2020.

Filed Date: 2/27/20.

Accession Number: 20200227-5201.

Comments Due: 5 p.m. ET 3/19/20.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: February 27, 2020.
Nathaniel J. Davis, Sr.,
Deputy Secretary.

[FR Doc. 2020-04401 Filed 3-3-20; 8:45 am]

BILLING CODE 6717-01-P